DEPARTMENT OF COMMERCE

International Trade Administration

University of Michigan; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5:00 p.m. in Room 4211, U.S. Department of Commerce, 14th and Constitution Avenue, NW., Washington, DC.

Docket Number: 00-011. Applicant: University of Michigan, Ann Arbor, MI 48109-1055. Instrument: Electron Beam Evaporator, Model EGN4. Manufacturer: Oxford Applied Research, United Kingdom. Intended Use: See notice at 65 FR 26583, May 8, 2000.

Comments: None received. Decision: Approved. No instrument of equivalent scientific value to the foreign instrument, for such purposes as it is intended to be used, is being manufactured in the United States. Reasons: The foreign instrument provides: (1) Capability to evaporate four different materials and (2) an interface to a vacuum chamber via a 2¾ inch CF flange. Two domestic manufacturers of similar equipment advise that (1) These capabilities are pertinent to the applicant's intended purpose and (2) they know of no domestic instrument or apparatus of equivalent scientific value to the foreign instrument for the applicant's intended use.

We know of no other instrument or apparatus of equivalent scientific value to the foreign instrument which is being manufactured in the United States.

Frank W. Creel,
Director, Statutory Import Programs Staff.

[FR Doc. 00-15524 Filed 6-19-00; 8:45 am]

BILLING CODE 3510-DS-P